DEPARTMENT OF DEFENSE

Office of the Secretary

[Docket No. DoD-2009-OS-0087]

Submission for OMB Review; Comment Request

ACTION: Notice.

The Department of Defense has submitted to OMB for clearance, the following proposal for collection of information under the provisions of the Paperwork Reduction Act (44 U.S.C. Chapter 35).

DATES: Consideration will be given to all comments received by March 8, 2010.

Title and OMB Number: Qualification to Possess Firearms or Ammunition; OMB Control Number 0704-0461.

Type of Request: Extension.

Number of Respondents: 125 companies.

Responses per Respondent: 5 to 2,500 employees (average 120).

Annual Responses: 15,000.

Average Burden per Response: 15 minutes.

Annual Burden Hours: 3,750 hours (15,000 employees × .25 hrs).

Needs and Uses: In accordance with DoD Instruction 3020.50, “Private Security Contractors Operating in Contingency Operations” written acknowledgement by the contract company and its individual Private Security Contractor (PSC) personnel, after investigation of background of PSC personnel by the contractor, shall be provided verifying such personnel are not prohibited under 922(g) of title 18, United States Code to possess firearms or ammunition.

Affected Public: Business or other for-profit.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: January 26, 2010.
Patricia L. Toppings,
OSD Federal Register Liaison Officer, Department of Defense.

[FR Doc. 2010-2453 Filed 2-4-10; 8:45 am]

BILLING CODE 5001-06-P